DEPARTMENT OF THE INTERIOR

National Park Service

National Register of Historic Places; Notification of Pending Nominations and Related Actions

Nominations for the following properties being considered for listing or related actions in the National Register were received by the National Park Service before July 22, 2006. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by August 16, 2006.

John W. Roberts,
Acting Chief, National Register/National Historic Landmarks Program.

COLORADO

Larimer County

Fall River Pump House and Catchment Basin, Rocky Mountain National Park, Estes Park, 06000735

GEORGIA

Clarke County

Downtown Athens Historic District (Boundary Increase II and Boundary Decrease), Roughly bounded by Dougherty St., Thomas St., Hickory St., Broad St. South. St. and Pulaski St., Athens, 06000737

Dougherty County

Albany Theatre, 107 N. Jackson St., Albany, 06000733

Floyd County

Double-Cola Bottling Company, 419 E. Second Ave., Rome, 06000738

Fulton County

61 16th Street Apartment Building, 61 16th St., Atlanta, 06000732

Newtown Elementary School, 3115 Old Alabama Rd., Alpharetta, 06000739

Smith, Archibald, House, 935 Alpharetta St., Roswell, 06000740

Walker County

Chickamauga Lodge No. 221, Free and Accepted Masons, Prince Hall Affiliate, 1378 GA 341 S, Chickamauga, 06000736

IDAHO

Power County

Warwas, Richard and Winnie, House, (American Falls, Idaho, Relocated Townsite MPS), 275 Polk St., American Falls, 06000741

LOUISIANA

Orleans Parish

Tureaud, A.P., Sr., House, 3121 Pauger St., New Orleans, 06000742

MARYLAND

Carroll County

Winemiller Family Farm, 1909 Francis Scott Key Hwy (MD 194), Taneytown, 06000743

MONTANA

Glacier County

Chief Mountain Border Station and Quarters, MT 17 at Canadian Border, Glacier National Park, Babb, 06000744

PENNSYLVANIA

Delaware County

Thornton Village Historic District, Centered on Thonton and Glen Mills Rds., Thornbury, 06000745

Philadelphia County

Nugent Home for Baptists, 221 W. Johnson St., Philadelphia, 06000746

VIRGINIA

Albemarle County

Aviator, The, 575 Alderman Rd., Charlotteville, 06000758

Arlington County

Claremont Historic District, (Historic Residential Suburbs in the United States, 1830-1960 MPS) Bounded by S. Dinwiddie St., S. Chesterfield Rd., S. Buchanan St., 25th. St. S, 24th St. S, 23rd St. S and 22nd St. S, Arlington, 06000751

Charlotte County

Clarkton Bridge, VA 620 over the Staunton R, Nathalie, 06000747

Fauquier County

Belle Grove, 1402 Winchester Rd., Delaplane, 06000756

Blue Ridge Farm, 1799 Blue Ridge Farm Rd., Upperville, 06000753

Lexington Independent City

First Baptist Church—Lexington, 103 N. Main St., Lexington (Independent City), 06000757

Madison County

Graves Mill, 29 Graves Rd., Wolftown, 06000754

Nelson County

Tyro Mill, VA 56 (Crabtree Falls Hwy), Tyro, 06000749

Richmond Independent City

Fifth and Main Downtown Historic District, 400-500 Blks E. Franklin St., 400-600 blks E. Main St., 00 blks N 4th, 5th and 6th Sts., 00 blk S 5th St., Richmond (Independent City), 06000750

Grays, Elliott, Marker—Jefferson Davis Highway, (UDC Commemorative Highway Markers along the Jefferson Davis Highway in Virginia) Jct. of Harwood St., Ingram Ave., and Jefferson Davis Hwy., Richmond (Independent City), 06000748

Roanoke Independent City

Roanoke Apartments, 1402 Maiden Ln., Roanoke (Independent City), 06000759

Rockbridge County

Hickory Hill, 197 Hickory Hill Ln., Glasgow, 06000760

Waynesboro Independent City

ose Cliff, 835 Oak Ave., Waynesboro (Independent City), 06000755

Wise County

Kelly View School, Appalachia Elementary School, Norton Rd., U.S. 23, Appalachia, 06000752

A request for REMOVAL has been made for the following resource:

MINNESOTA

Carlton County

Kalevala Finnish Evangelical National Lutheran Church, MN 73, Kalevlala vicinity, 98001218

[FR Doc. E6-12283 Filed 7-31-06; 8:45 am]

BILLING CODE 4312-51-P